DEPARTMENT OF TRANSPORTATION

Federal Motor Carrier Safety Administration

Solicitation of Applications for Fiscal Year (FY) 2010 Motor Carrier Safety Assistance Program (MCSAP) High Priority Grant Funding

AGENCY: Federal Motor Carrier Safety Administration (FMCSA), DOT.

ACTION: Notice.

SUMMARY: FMCSA announces that on May 21 it published an opportunity to apply for FY 2010 MCSAP High Priority grant funding on the grants.gov Web site (http://www.grants.gov).

DATES: FMCSA will initially consider funding for applications submitted by July 1, 2010. If additional funding remains available, applications submitted after that date will be considered on a case-by-case basis.

FOR FURTHER INFORMATION CONTACT: Ms. Cim Weiss, Federal Motor Carrier Safety Administration, Office of Safety Programs, State Programs Division (MC-ESS), 202-366-0275, 1200 New Jersey Avenue, SE., Washington, DC 20590. Office hours are from 8:00 a.m. to 4:30 p.m., EST., Monday through Friday, except Federal holidays.

SUPPLEMENTARY INFORMATION: The Consolidated Appropriations Act of 2010 provides grant funding for Commercial Motor Vehicle (CMV) safety programs as authorized under the Safe, Accountable, Flexible, Efficient Transportation Equity Act: A Legacy for Users, Public Law 111-147, 124 Stat. 71 (2010); Public Law 109-59, 119 Stat. 1144 (2005).

This notice announces the availability of approximately $2,000,000 in un-awarded FY 2010 funding for MCSAP High Priority projects. These funds are available for activities conducted by State agencies, local governments, and organizations representing government agencies that use and train qualified officers and employees in coordination with State motor vehicle safety agencies. Post-secondary institutions of higher education are also eligible to receive funding. Funds are allocated in accordance with the provisions of 49 CFR 350.313 and 49 CFR 350.319. Applicants are encouraged to submit performance-based proposals that represent innovative strategies to support, enrich, or evaluate CMV safety programs. Priority for selection will be given to proposals with potential for nation-wide implementation, such as programs that support:

• The DOT's continuing effort to combat distracted driving by CMV drivers;

• Outreach that promotes safe driving practices by teen drivers around CMVs; and

• The development of a proof of concept, validating the Ticketing Aggressive Cars and Trucks (TACT) evaluation component's contribution to reducing CMV crash and fatality rates.

All applicants must submit an electronic application package through grants.gov. To apply using the grants.gov process, the applicant must be registered with grants.gov. To register, go to http://www.grants.gov/applicants/get_registered.jsp. The applicant must download the grant application package, complete the grant application package, and submit the completed grant application package.

This can be done on the Internet at http://www.grants.gov/applicants/apply_for_grants.jsp. The Catalogue of Federal Domestic Assistance number for MCSAP is 20.218.

Issued on: May 20, 2010.
William A. Quade,
Associate Administrator for Enforcement and Program Delivery.

[FR Doc. 2010-12831 Filed 5-27-10; 8:45 am]

BILLING CODE 4910-EX-P